DEPARTMENT OF TRANSPORTATION

Federal Aviation Administration

14 CFR Part 39

[Docket No. FAA-2018-0994; Product Identifier 2017-SW-002-AD]

RIN 2120-AA64

Airworthiness Directives; Airbus Helicopters

AGENCY: Federal Aviation Administration (FAA), DOT.

ACTION: Notice of proposed rulemaking (NPRM).

SUMMARY: The FAA proposes to supersede Airworthiness Directive (AD) 2017-14-05 for Airbus Helicopters Model SA330J helicopters. AD 2017-14-05 requires replacing certain right-hand (RH) hydraulic pumps and is prompted by reports of broken screws that attach the cover of the hydraulic pump. This proposed AD would continue to require the same actions as AD 2017-14-05 but would also require replacing the left-hand (LH) hydraulic pump. The actions of this proposed AD are intended to address an unsafe condition on these products.

DATES: The FAA must receive comments on this proposed AD by December 20, 2019.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2018-0994; or in person at Docket Operations between 9 a.m. and 5 p.m., Monday through Friday, except Federal holidays. The AD docket contains this proposed AD, the European Aviation Safety Agency (EASA) AD, the economic evaluation, any comments received and other information. The street address for Docket Operations is listed above. Comments will be available in the AD docket shortly after receipt.

For service information identified in this proposed rule, contact Airbus Helicopters, 2701 N Forum Drive, Grand Prairie, TX 75052; telephone (972) 641-0000 or (800) 232-0323; fax (972) 641-3775; or at http://www.helicopters.airbus.com/website/en/ref/Technical-Support_73.html. You may review this referenced service information at the FAA, Office of the Regional Counsel, Southwest Region, 10101 Hillwood Pkwy., Room 6N-321, Fort Worth, TX 76177.

FOR FURTHER INFORMATION CONTACT: Matt Fuller, Senior Aviation Safety Engineer, Safety Management Section, Rotorcraft Standards Branch, FAA, 10101 Hillwood Pkwy., Fort Worth, TX 76177; telephone (817) 222-5110; email matthew.fuller@faa.gov.

SUPPLEMENTARY INFORMATION:

Comments Invited

The FAA invites you to participate in this rulemaking by submitting written comments, data, or views. The FAA also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments received, as well as a report summarizing each substantive public contact with FAA personnel concerning this proposed rulemaking. Before acting on this proposal, the FAA will consider all comments received on or before the closing date for comments. The FAA will consider comments filed after the comment period has closed if it is possible to do so without incurring expense or delay. The FAA may change this proposal in light of the comments received.

Discussion

The FAA issued a final rule; request for comment to AD 2017-14-05, Amendment 39-18949 (82 FR 31899, July 11, 2017) (“AD 2017-14-05”) for Airbus Helicopters Model SA330J helicopters with a LH and RH hydraulic pump part number (P/N) FR65WEO2005-175A with a serial number 4108, 4141, 4177, 4227, 4241, 4284, 4377, 4422, 4570, 4573, 4574, 4641, 4649, 4668, 4766, 4802, 4821, 4831, 4837, 4888, 4896, 4946, 4985, 5023, 5071, 5304, 5366, 5376, 5409, 5442, 5486, 5599, 5630, 94075/01, or 94048/01 installed. AD 2017-14-05 requires replacing the RH hydraulic pump within 15 hours time-in-service.

AD 2017-14-05 was prompted by EASA Emergency AD No. 2016-264-E, dated December 22, 2016 (EASA AD 2016-264-E), issued by EASA, to correct an unsafe condition for Airbus Helicopters Model SA330J helicopters. EASA advises of reports of broken screws that attach the cover of the hydraulic pump. A subsequent investigation revealed that hydrogen was introduced into a batch of screws delivered between July 1, 2015, and November 1, 2016, causing the screws to become brittle and lack sufficient strength. These screws were installed in a batch of hydraulic pumps, P/N FR65WEO2005-175A, identified by certain serial numbers, EASA advises. As a result, the EASA AD requires replacing the hydraulic pumps.

The actions of AD 2017-14-05 were intended to prevent failure of a cover bolt and loss of fluid from the hydraulic pump, resulting in loss of the hydraulic system and subsequent loss of helicopter control.

This NPRM would retain the requirements of AD 2017-14-05 but would also require replacing the LH hydraulic pump within 110 hours TIS. Because this proposed action would have a longer compliance time, the FAA is providing the public an opportunity to comment.

Comments

After AD 2017-14-05 was published, the FAA received two comments from Airbus Helicopters.

Airbus Helicopters requested that the FAA clarify the requirement in AD 2017-14-05 to only replace the RH hydraulic pump, when EASA AD 2016-0264-E requires replacing both the RH and LH hydraulic pumps.

The FAA agrees that the LH hydraulic pump also needs to be replaced. AD 2017-14-05 was issued as a final rule; request for comments and was effective in less than 30 days because it required replacing the RH hydraulic pump within a short time period. When the FAA issued AD 2017-14-05, the FAA explained that the compliance time for replacing the LH hydraulic pump allowed enough time to provide notice and opportunity for prior public comment. This proposed AD would require replacing both the RH and LH hydraulic pumps.

Airbus Helicopters also requested that the FAA clarify whether the pumps listed in the Applicability of AD 2017-14-05 by P/N and serial number are serviceable because EASA AD 2016-264-E allows those pumps to be installed if repaired in accordance with Mechanics Alert Service Bulletin No. NM/INGE/16-140, Revision 0, dated December 22, 2016 (Nexter ASB).

Airbus Helicopters is correct that the pumps listed by P/N and serial number in the Applicability section of AD 2017-14-05 are not serviceable. Paragraph (e)(2) of AD 2017-14-05 prohibits installing those pumps on any helicopter. One of the instructions in the Nexter ASB is to re-identify the pump by adding a “V” after the serial number. If a pump has been repaired in accordance with the Nexter ASB, this AD will not apply because the pump will have a serial number that is not listed in the Applicability section of this AD.

FAA's Determination

These helicopters have been approved by EASA and are approved for operation in the United States. Pursuant to the FAA's bilateral agreement with the European Union, EASA has notified the FAA of the unsafe condition described in its AD. The FAA is proposing this AD after evaluating all known relevant information and determined that an unsafe condition is likely to exist or develop on other products of the same type design.

Related Service Information

The FAA reviewed Airbus Helicopters Emergency Alert Service Bulletin No. SA330-29.12, Revision 0, dated December 22, 2016 (Airbus EASB), for Model SA330J helicopters and military model SA330L, SA330Jm, SA330S1, and SA330Sm helicopters. The Airbus EASB specifies removing Nexter Mechanics hydraulic pumps P/N FR65WEO2005-175A with certain serial numbers. If both the RH and LH hydraulic pumps have an affected P/N and serial number, the Airbus EASB specifies replacing the RH hydraulic pump before further flight and the LH hydraulic pump within 110 flying hours or 6 months. If only one hydraulic pump has an affected P/N and serial number, the Airbus EASB specifies replacing it within 110 flying hours or 6 months. The Airbus EASB also specifies that, for 6 months after receipt of the Airbus EASB, before installing an affected hydraulic pump it must be “returned to conformity” by complying with Nexter ASB. After 6 months or 110 flying hours, whichever occurs first, the Airbus ASB states the affected hydraulic pumps are unfit for flight.

Proposed AD Requirements

This proposed AD would require replacing the RH hydraulic pump within 15 hours TIS and replacing the LH hydraulic pump within 110 hours TIS. This proposed AD would also prohibit installation of an affected hydraulic pump on any helicopter.

Costs of Compliance

The FAA estimates that this AD would affect 24 helicopters and that labor costs average $85 per work-hour. Based on these estimates, the FAA expects that replacing two hydraulic pumps would require 4 work-hours and parts cost $5,000 for a total cost of $5,340 per helicopter and $128,160 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Will not affect intrastate aviation in Alaska to the extent that it justifies making a regulatory distinction; and

3. Will not have a significant economic impact, positive or negative, on a substantial number of small entities under the criteria of the Regulatory Flexibility Act.

The FAA prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2017-14-05, Amendment 39-18949 (82 FR 31899, July 11, 2017), and adding the following new AD:

Airbus Helicopters: Docket No. FAA-2018-0994; Product Identifier 2017-SW-002-AD.

(a) Applicability

This AD applies to Airbus Helicopters Model SA330J helicopters, certificated in any category, with a left-hand (LH) and a right-hand (RH) hydraulic pump part number FR65WEO2005-175A with a serial number 4108, 4141, 4177, 4227, 4241, 4284, 4377, 4422, 4570, 4573, 4574, 4641, 4649, 4668, 4766, 4802, 4821, 4831, 4837, 4888, 4896, 4946, 4985, 5023, 5071, 5304, 5366, 5376, 5409, 5442, 5486, 5599, 5630, 94075/01, or 94048/01 installed.

(b) Unsafe Condition

This AD defines the unsafe condition as failure of a screw attaching the hydraulic pump cover. This condition could result in failure of a cover bolt and loss of fluid from the hydraulic pump, resulting in loss of the hydraulic system and subsequent loss of helicopter control.

(c) Affected ADs

This AD replaces AD 2017-14-05, Amendment 39-18949 (82 FR 31899, July 11, 2017) (AD 2017-14-05).

(d) Comments Due Date

The FAA must receive comments by December 20, 2019.

(e) Compliance

You are responsible for performing each action required by this AD within the specified compliance time unless it has already been accomplished prior to that time.

(f) Required Actions

(1) Within 15 hours time-in-service (TIS) from July 26, 2017 (the effective date of AD 2017-14-05), replace the RH hydraulic pump with an airworthy hydraulic pump that is not listed in paragraph (a) of this AD.

(2) Within 110 hours TIS from the effective date of this AD, replace the LH hydraulic pump with an airworthy hydraulic pump that is not listed in paragraph (a) of this AD.

(3) After the effective date of this AD, do not install on any helicopter a hydraulic pump that is listed in paragraph (a) of this AD.

(g) Special Flight Permits

Special flight permits are prohibited.

(h) Alternative Methods of Compliance (AMOCs)

(1) The Manager, Safety Management Section, Rotorcraft Standards Branch, FAA, may approve AMOCs for this AD. Send your proposal to: Matt Fuller, Senior Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(i) Additional Information

(1) Airbus Helicopters Emergency Alert Service Bulletin No. SA330-29.12, Revision 0, dated December 22, 2016, and Nexter Mechanics Alert Service Bulletin No. NM/INGE/16-140, Revision 0, dated December 22, 2016, which are not incorporated by reference, contain additional information about the subject of this AD. For service information identified in this AD, contact Airbus Helicopters, 2701 N Forum Drive, Grand Prairie, TX 75052; telephone (972) 641-0000 or (800) 232-0323; fax (972) 641-3775; or at http://www.helicopters.airbus.com/website/en/ref/Technical-Support_73.html. You may review a copy of the service information at the FAA, Office of the Regional Counsel, Southwest Region, 10101 Hillwood Pkwy., Room 6N-321, Fort Worth, TX 76177.

(2) The subject of this AD is addressed in European Aviation Safety Agency (EASA) No. 2016-0264-E, dated December 22, 2016. You may view the EASA AD on the internet at http://www.regulations.gov in the AD Docket.

(j) Subject

Joint Aircraft Service Component (JASC) Code: 2913, Hydraulic Pump (Electric/Engine) Main.

Issued in Fort Worth, Texas, on September 10, 2019.
Lance T. Gant,
Director, Compliance & Airworthiness Division, Aircraft Certification Service.

[FR Doc. 2019-22815 Filed 10-18-19; 8:45 am]

BILLING CODE 4910-13-P